DEPARTMENT OF HOUSING AND URBAN DEVELOPMENT

[Docket No. FR-4491-N-15]

Notice of Availability of a Draft Environmental Impact Statement for the Greenbridge Redevelopment Project, King County, WA

AGENCY: Office of the Assistant Secretary for Community Planning and Development, HUD.

ACTION: Notice.

SUMMARY: HUD provides notice to the public, agencies, and Indian tribes on behalf of the King County Department of Development and Environmental Services (DDES) acting as the Responsible Entity for compliance with the National Environmental Policy Act (NEPA) in accordance with 24 CFR 58.4, and jointly the DDES and King County Housing Authority (KCHA), acting under their authority as lead agencies in accordance with the State Environmental Policy Act (SEPA) (RCW 43.21), that a Draft Environmental Impact Statement (Draft EIS) for the redevelopment of Park Lake Homes public housing community (Greenbridge) will be available for review and comment on November 21, 2003. This notice is given in accordance with the Council on Environmental Quality regulations at 40 CFR parts 1500-1508.

Notice is also given that the DDES as Responsible Entity decided to combine the National Historic Preservation Act, section 106 process with the NEPA EIS in accordance with 36 CFR 800.8. Comments are also being requested on the section 106 information presented in the Draft EIS as well as on the section 106 process itself.

DATES: Comments Due Date: Comments must be received on or before January 5, 2004. Written comments on the Draft EIS should be addressed to the individual named below under the heading FOR FURTHER INFORMATION CONTACT. A public comment meeting will be held during the comment period to ensure public participation. The public meeting will be held on December 17, 2003, from 5 p.m. to 8 p.m. (child care and language translation services will be available at the meeting). The public comment meeting will be held at the Jim Wiley Community Center, 9800 8th Avenue, SW., King County, WA.

FOR FURTHER INFORMATION CONTACT: Greg Borba, Planning Supervisor, King County Department of Development and Environmental Services, 900 Oaksdale Avenue SW., Renton, WA 98055-1219, telephone number (206) 296-7118.

Copies of the Draft EIS may be purchased for the cost of reproduction. Copies are available at the King Housing Authority's office (600 Andover Park W, Tukwila, WA). Please contact Oksana Winstead at the King County Housing Authority (206-574-1197) to make arrangements to obtain a copy. The Draft EIS can also be reviewed at the King County Housing Authority's office (600 Andover Park W.) Monday through Friday, 8 a.m. to 5 p.m., at the Park Lake Homes HOPE VI Office (206-574-1107), and at the following public libraries in King County, WA:

• Boulevard Park Library (12015 Roseberg Ave. S.);

• Burien Public Library (14700 Sixth SW.);

• Foster Public Library (7614 S. 126th);

• White Center Public Library (11220-16th SW.)

• King County Library System, Documents Branch (690 Newport Way NW., Issaquah);

• Seattle Public Library Central Library (800 Pike St.);

• Seattle Public Library Central Library, Documents Branch (800 Pike St.);

• Seattle Public Library Southwest Branch (9010—35th Ave. SW.);

• Seattle Public Library West Seattle Branch (2306—42nd Ave. SW.).

SUPPLEMENTARY INFORMATION: The King County Department of Development and Environmental Services (DDES), acting under authority of section 104(g) of the Housing and Community Development Act of 1974 (42 U.S.C. 5304(g)) and HUD's regulations at 24 CFR part 58, in cooperation with other interested agencies, has prepared a Draft EIS to analyze potential impacts of redevelopment of the Park Lake Homes public housing community (Greenbridge Redevelopment Project-Proposed Master Plan). The Draft EIS is a joint National Environmental Policy Act (NEPA) and Washington State Environmental Policy Act (SEPA) document intended to satisfy requirements of federal and state environmental statutes. HUD has allowed the assumption of its NEPA authority and NEPA lead agency responsibility by the King County (DDES) as the Responsible Entity in cooperation with the Recipient, King County Housing Authority (KCHA), as the SEPA lead agency.

Park Lake Homes is KCHA's oldest and largest public housing development. Built in 1942 to serve as temporary housing for World War II defense workers, structures have been renovated several times. The KCHA received a HOPE VI grant award from HUD in November 2001, to initiate planning for the revitalization of this public housing development.

The Proposed Master Plan includes redevelopment of the existing approximately 94-acre project site located in the White Center area of unincorporated King County, Washington. The proposed redevelopment is consistent with requirements for a mixed-use, mixed-income housing project as described in the HOPE VI grant. The project site currently contains 569 residential units, a Community Center, a maintenance shop, a Head Start School, and a secondary building containing a food bank and administrative offices. The residential units are in primarily single story duplex structures.

The plan is to replace all existing low-income housing to either within the site or elsewhere in King County, through construction of public housing units on-site and project-based Section 8 vouchers in existing or new housing complexes. Existing residents would be displaced and assisted with benefits according to the provisions of the Uniform Relocation Assistance and Real Property Acquisition Policies Act. Where possible, displaced residents in good standing would be allowed to return to the public housing units once redevelopment is complete.

Most of the current buildings on the site would be demolished in phases, unless renovation for community services use is feasible. The existing Jim Wiley Community Center building will likely be renovated. In addition, much of the existing infrastructure would be demolished, abandoned, or replaced, also in phases. The project site would be redeveloped to provide approximately 900 to 1,100 dwelling units of rental and for-sale housing, in attached and detached forms, to meet a wide range of needs. Rental housing could include public housing units (attached townhouses, over/under flats, over/under townhouses, cottages) and workforce housing (attached townhouses, over/under flats, over/under townhouses, and apartments). For sale housing could include single family detached, cottages, attached townhouses, condominium flats and condominium townhouses.

An estimated 2,235,000 square feet of net buildable area is associated with the Proposed Master Plan. Non-residential development would include an estimated 80,000-100,000 square feet of community-oriented uses. Such uses may include: a branch library, renovated community center, youth and family facilities, Head Start and child care facility, Sheriff's office, food bank, career development center and meeting/gathering space. Approximately 22,300 square feet of neighborhood-scale retail, to meet the everyday needs of residents, is also proposed. A new elementary school (White Center Heights Elementary) is presently under construction; this is an independent proposal for purposes of land use permitting and SEPA review (although the site is included within the Greenbridge Preliminary Plat). A SEPA Determination of Nonsignificance was published on September 18 and 25, 2002, for the new elementary school.

Questions may be directed to the individual named above under the above heading FOR FURTHER INFORMATION CONTACT.

Dated: November 7, 2003.
Roy A. Bernardi,
Assistant Secretary for Community Planning and Development.

[FR Doc. 03-29056 Filed 11-20-03; 8:45 am]

BILLING CODE 4210-29-P